DEPARTMENT OF AGRICULTURE

Commodity Credit Corporation

7 CFR Part 1465

RIN 0578-AA50

Agricultural Management Assistance Program Correction

AGENCY: Commodity Credit Corporation, United States Department of Agriculture.

ACTION: Interim final rule; correction.

SUMMARY: The Commodity Credit Corporation (CCC) published in the Federal Register of November 20, 2008, an interim final rule with request for comment amending the program regulations for the Agricultural Management Assistance (AMA) Program to incorporate programmatic changes authorized by the Food, Conservation, and Energy Act of 2008 (2008 Act). The language in the interim final rule regarding the application of the payment limitation to joint operations was incorrect and is inconsistent with payment attributions specified in the regulation which governs payment limitations and eligibility determinations for CCC-funded programs. This document corrects that language.

DATES: This correction is effective on March 12, 2009.

FOR FURTHER INFORMATION CONTACT: Gregory Johnson, Director, Financial Assistance Programs Division, U.S. Department of Agriculture, Natural Resources Conservation Service, Room 5237, P.O. Box 2890, Washington, DC 20013-2890; Phone: (202) 720-1845; Fax: (202) 720-4265.

SUPPLEMENTARY INFORMATION: The CCC published an interim final rule in the Federal Register of November 20, 2008 (73 FR 70245), amending the program regulations for the AMA found at 7 CFR part 1465. The language in the interim final rule regarding the application of the payment limitation to joint operations was incorrect. The AMA interim final rule inadvertently applied the $50,000 annual payment limitation to joint operations, by applying the payment limitation to the term “participants,” which is defined to include “joint operations.” A joint operation is composed of members who may be either persons or legal entities. As specified under 7 CFR part 1400, payment limitations are determined on a pro-rata basis in accordance with the “interest held by the person or legal entity in any other legal entity or joint operation.” Based on how joint operations are characterized in part 1400.106, the $50,000 annual payment limit applies to each person or legal entity that comprises the joint operation. Within the preamble of 7 CFR part 1465, the discussion on payment limitation should apply solely to persons or legal entities. CCC deletes the preamble's references to payment limitations applying to joint operations.

For the reasons stated in the preamble, the CCC amends part 1465 of Title 7 of the Code of Federal Regulations as set forth below:

PART 1465—AGRICULTURAL MANAGEMENT ASSISTANCE

1. The authority citation for part 1465 continues to read as follows:

Authority: 7 U.S.C. 1524(b).

2. Section 1465.23 is amended by revising paragraph (d) to read as follows:

§ 1465.23 Payments.

* * * * *

(d) The total amount of payments paid to a person or legal entity under this part may not exceed $50,000 for any fiscal year.

* * * * *

Signed this 4th day of March, 2009, in Washington, DC.
Dave White,
Acting Vice President, Commodity Credit Corporation and Acting Chief, Natural Resources Conservation Service.

[FR Doc. E9-5093 Filed 3-11-09; 8:45 am]

BILLING CODE 3410-16-P